DEPARTMENT OF ENERGY

Federal Energy Regulatory Commission

[Project No. 7242-060]

STS Hydropower, LLC; Notice of Intent To Prepare an Environmental Assessment

On September 30, 2022, and supplemented on February 28 and April 28, 2023, STS Hydropower, LLC (licensee) filed an application to surrender its license for the Kanaka Hydroelectric Project No. 7242. The project is located on Sucker Run Creek, in Butte County, California. The project does not occupy any federal lands.

The project has been inoperable since August 2017 when the powerhouse, transmission lines, and electrical equipment were severely damaged or destroyed by the Ponderosa Wildfire. Considering the extensive damage to these project features, the licensee determined that it is not cost effective to restore project operation. Instead, the licensee proposes to surrender the license and remove most project features. The privately owned project dam would remain in place. A Notice of Application Accepted for Filing and Soliciting Comments, Motions to Intervene, and Protest was issued on March 23, 2023. On April 24, 2023, the California State Water Resources Control Board filed a timely motion to intervene. No additional comments were received in response to the Commission's notice.

This notice identifies Commission staff's intention to prepare an environmental assessment (EA) for the review of the proposed action. The planned schedule for the completion of the EA is June 2024.¹ Revisions to the schedule may be made as appropriate. The EA will be issued and made available for review by all interested parties. All comments filed on the EA will be reviewed by staff and considered in the Commission's final decision on the proceeding.

¹ 42 U.S.C. 4336a(g)(1)(B) requires lead federal agencies to complete EAs within 1 year of the agency's decision to prepare an EA.

With this notice, the Commission is inviting federal, state, local, and Tribal agencies with jurisdiction and/or special expertise with respect to environmental issues affected by the proposal to cooperate in the preparation of the EA planned to be issued June 2024. Agencies wishing to cooperate, or further discuss the benefits, responsibilities, and obligations of the cooperating agency role, should contact staff listed at the bottom of this notice by February 19, 2024. Cooperating agencies should note the Commission's policy that agencies that cooperate in the preparation of any environmental document cannot also intervene. See 94 FERC ¶ 61,076 (2001).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Diana Shannon at 202-502-6136 or diana.shannon@ferc.gov.

Dated: January 29, 2024.
Debbie-Anne A. Reese,
Acting Secretary.

[FR Doc. 2024-02099 Filed 2-1-24; 8:45 am]

BILLING CODE 6717-01-P